DEPARTMENT OF HOMELAND SECURITY

Bureau of Customs and Border Protection

Cancellation of Customs Broker License Due to Death of the License Holder

AGENCY: Bureau of Customs and Border Protection, Department of Homeland Security.

ACTION: General notice.

SUMMARY: Notice is hereby given that, pursuant to 19 CFR 111.51(a), the following individual Customs broker license and any and all associated permits have been cancelled due to the death of the broker:

Name | License No. | Port name
Robert J. McCracken | 03346 | Detroit.
Emilio E. Ruiz | 04434 | Miami.
Sig M. Glukstad | 03864 | Miami.
Mary Kay Angel | 21807 | Houston.
Robert E. Mullins | 04130 | San Francisco.

Dated: June 10, 2003.
Jayson P. Ahern,
Assistant Commissioner, Office of Field Operations.

[FR Doc. 03-15243 Filed 6-16-03; 8:45 am]

BILLING CODE 4820-02-P